SOCIAL SECURITY ADMINISTRATION

President's Commission To Strengthen Social Security

AGENCY: Social Security Administration (SSA).

ACTION: Announcement of meeting.

DATES: June 11, 2001, 10 a.m.—6 p.m.

ADDRESSES: Washington, DC—Exact location to be determined. Due to unforeseen circumstances the room location has not been identified to date, but notice of the exact location will be provided in the Federal Register as soon as it is available.

SUPPLEMENTARY INFORMATION: Type of meeting: The meeting will be open to the public between 11 a.m. and 6 p.m. In accordance with the Government in the Sunshine Act, 5 U.S.C. 552b(c), the meeting will be closed to the public from 10 a.m. to 11 a.m. to conduct housekeeping business relating solely to Federal personnel rules and practices and other administrative matters.

Due to extenuating circumstances in obtaining meeting space the Commission was unable to publish this meeting notice 15 days prior to the actual meeting.

Executive order 13210 established the Commission, which is intended to provide bipartisan recommendations to the President for modernizing and restoring fiscal soundness to the Social Security system according to the following principles: modernization must not change Social Security benefits for retirees or near retirees; the entire Social Security surplus must be dedicated to Social Security only; Social Security payroll taxes must not be increased; the Government must not invest Social Security funds in the stock market; modernization must preserve Social Security's disability and survivors components; and modernization must include individually controlled, voluntary personal retirement accounts, which will augment the Social Security safety net.

Purpose: This is the first deliberative meeting of the Commission. No public testimony will be heard at this meeting. However, interested parties are invited to attend the meeting.

Agenda: The Commission will meet commencing Monday, June 11, 2001, at 10 a.m. The meeting will be open to the public at 11 a.m., when the Commission will discuss its organization, upcoming agenda, and interim report. From 2 p.m. until 6 p.m., Commission staff will respond to information requests from Commission members.

Closer to the meeting date, a more detailed meeting agenda may be obtained by contacting the Commission staff at the mailing address or telephone number below.

Records are being kept of all Commission proceedings and will be available for public inspection at the Commission's office at the address below. Documents such as meeting announcements, agendas, minutes, and the interim and final reports will be available on the Commission's web page, which is currently under construction. Anyone requiring information regarding the Commission should contact the Commission staff by:

• Internet at www.CommToStrengthenSocSec.gov (under construction, not currently available;

• Mail addressed to President's Commission to Strengthen Social Security, 734 Jackson Place, NW, Washington, DC, 20503;

• Telephone at (202) 343-1255;

• Email to Michael Anzick, Designated Federal Officer, at “Michael.Anzick@SSA.gov”

Dated: May 23, 2001.
Larry G. Massanari,
Acting Commissioner of Social Security.

[FR Doc. 01-13486 Filed 5-24-01; 2:06 pm]

BILLING CODE 4191-02-P